DEPARTMENT OF COMMERCE

International Trade Administration

Virginia Commonwealth University, School of Medicine; Notice of Decision on Applications for Duty-Free Entry of Scientific Instruments

This is a decision pursuant to Section 6(c) of the Educational, Scientific, and Cultural Materials Importation Act of 1966 (Pub. L. 89-651, as amended by Public Law 106-36; 80 Stat. 897; 15 CFR part 301). Related records can be viewed between 8:30 a.m. and 5 p.m. in Room 3720, U.S. Department of Commerce, 14th and Constitution Ave, NW., Washington, DC.

Docket Number: 10-022. Applicant: Virginia Commonwealth University, School of Medicine, Richmond, VA 23298-0551. Instrument: Electron Microscope. Manufacturer: FEI Company, the Netherlands. Intended Use: See notice at 75 FR 53271, August 31, 2010. Comments: None received. Decision: Approved. Reasons: The instrument will be used to investigate the three dimensional structure of biological macromolecules, which will be observed under cryogenic conditions. We know of no instruments of equivalent scientific value to the foreign instruments described above, for such purposes as this is intended to be used, that was being manufactured in the United States at the time of its order.

Dated: September 28, 2010.
Gregory W. Campbell,
Acting Director, Subsidies Enforcement Office, Import Administration.

[FR Doc. 2010-24834 Filed 10-1-10; 8:45 am]

BILLING CODE 3510-DS-P